DEPARTMENT OF THE INTERIOR

National Park Service

[N6805; NPS-WASO-NAGPRA-NPS0041627; PPWOCRADN0-PCU00RP14.R50000]

Notice of Intended Repatriation: Sheldon Jackson Museum, Sitka, AK

AGENCY: National Park Service, Interior.

ACTION: Notice.

SUMMARY: In accordance with the Native American Graves Protection and Repatriation Act (NAGPRA), the Sheldon Jackson Museum intends to repatriate a certain cultural item that meets the definition of an object of cultural patrimony and that has a cultural affiliation with the Indian Tribes or Native Hawaiian organizations in this notice.

DATES: Repatriation of the cultural item in this notice may occur on or after January 21, 2026.

ADDRESSES: Send additional, written requests for repatriation of the cultural item in this notice to Jacqueline Fernandez-Hamberg, Sheldon Jackson Museum, 104 College Drive, Sitka, AK 99835, email Jacqueline.Fernandez-Hamberg@alaska.gov.

SUPPLEMENTARY INFORMATION: This notice is published as part of the National Park Service's administrative responsibilities under NAGPRA. The determinations in this notice are the sole responsibility of the Sheldon Jackson Museum, and additional information on the determinations in this notice, including the results of consultation, can be found in the summary or related records. The National Park Service is not responsible for the determinations in this notice.

Abstract of Information Available

A total of one cultural items have been requested for repatriation. The one object of cultural patrimony is a Tlingit war helmet. Helmet carved from of wood burl wood, covered tightly with bear skin with fur on it. The figure is the raven, representing the Raven moiety crest of the Sitka Kiks.adi clan. The eyes are inlaid with copper.

Determinations

The Sheldon Jackson Museum has determined that:

• The one object of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural item described in this notice and the Sitka Tribe of Alaska.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 21, 2026. If competing requests for repatriation are received, the Sheldon Jackson Museum. must determine the most appropriate requestor prior to repatriation. Requests for joint repatriation of the cultural item are considered a single request and not competing requests. The Sheldon Jackson Museum is responsible for sending a copy of this notice to the Indian Tribes and Native Hawaiian organizations identified in this notice and to any other consulting parties.

Authority: Native American Graves Protection and Repatriation Act, 25 U.S.C. 3004 and the implementing regulations, 43 CFR 10.9.

Dated: December 12, 2025.
Melanie O'Brien,
Manager, National NAGPRA Program.

[FR Doc. 2025-23538 Filed 12-19-25; 8:45 am]

BILLING CODE 4312-52-P